DEPARTMENT OF THE INTERIOR

Bureau of Land Management

[AK-921-1410-BK-P]

Notice for Publication; Filing of Plat of Survey; Alaska

1. A plat of survey for the following described lands was officially filed in the Alaska State Office, Anchorage, Alaska, on the date indicated:

A plat representing the corrective dependent resurvey of line 1-2 of the Nome Townsite, Amended U.S. Survey No. 451; the dependent resurvey of line 4-5 of the Nome Townsite, Amended U.S. Survey No. 451 and portions of Mineral Survey Nos. 410 and 1339; the survey of partition lines attached to the Nome Townsite, Amended U.S. Survey No. 451; the corrective meanders along Norton Sound in sections 26, 27, 28, 35, 36 and a portion of section 29; and the perpetuation of U.S. Location Monument 1C; all within Township 11 South, Range 34 West, Kateel River Meridian, Alaska, was accepted on October 3, 2003, and was officially filed January 14, 2004.

2. This survey was prepared at the request of the Bureau of Land Management, Division of Geomatics and Cadastral Services, and will immediately become part of the basic record for describing lands for all authorized purposes within this township.

3. This survey has been placed in the open files in the Alaska State Office and is available to the public as a matter of information. All inquires relating to these lands should be sent to the Alaska State Office, Bureau of Land Management, 222 West Seventh Avenue, #13, Anchorage, Alaska 99513-7599; 907-267-1403.

Daniel L. Johnson,
Chief, Branch of Field Surveys.

[FR Doc. 04-3426 Filed 2-17-04; 8:45 am]

BILLING CODE 1410-BK-P